SMALL BUSINESS ADMINISTRATION

[Disaster Declaration #20187; OREGON Disaster Number OR-20000 Declaration of Economic Injury]

Administrative Declaration of an Economic Injury Disaster for the State of Oregon

AGENCY: U.S. Small Business Administration.

ACTION: Notice.

SUMMARY: This is a notice of an Economic Injury Disaster Loan (EIDL) declaration for the State of Oregon dated 02/08/2024.

Incident: Winter Ice Storm.

Incident Period: 01/12/2024 through 01/20/2024.

DATES: Issued on 02/08/2024.

Economic Injury (EIDL) Loan Application Deadline Date: 11/08/2024.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Clackamas, Clatsop, Lane, Lincoln, Multnomah, Washington.

Contiguous Counties:

Oregon: Benton, Columbia, Deschutes, Douglas, Hood River, Klamath, Linn, Marion, Polk, Tillamook, Wasco, Yamhill.

Washington: Clark, Pacific, Skamania, Wahkiakum.

The Interest Rates are:

| Percent
Business and Small Agricultural Cooperatives without Credit Available Elsewhere | 4.000
Non-Profit Organizations without Credit Available Elsewhere | 3.250

The number assigned to this disaster for economic injury is 201870.

The States which received an EIDL Declaration are Oregon, Washington.

(Catalog of Federal Domestic Assistance Number 59008)

Isabella Guzman,
Administrator.

[FR Doc. 2024-03016 Filed 2-13-24; 8:45 am]

BILLING CODE 8026-09-P